DEPARTMENT OF THE INTERIOR

Fish and Wildlife Service

[FWS-HQ-ES-2023-N035; FF09E41000 234 FXES11130900000]

Endangered and Threatened Species; Issuance of Enhancement of Survival and Incidental Take Permits for Safe Harbor Agreements, Candidate Conservation Agreements, Conservation Plans, and Recovery Activities; January 1, 2022, Through December 31, 2022

AGENCY: Fish and Wildlife Service, Interior.

ACTION: Notice.

SUMMARY: We, the U.S. Fish and Wildlife Service, in accordance with the Endangered Species Act (ESA), provide a list to the public of permits issued under the ESA. With some exceptions, the ESA prohibits take of listed species unless a Federal permit is issued that authorizes or exempts the taking under the ESA. We provide this list to the public as a summary of our permit issuances for candidate conservation agreements with assurances, safe harbor agreements, habitat conservation plans, and recovery activities for calendar year 2022.

FOR FURTHER INFORMATION CONTACT: For general information about the ESA permit process, contact Amanda Murnane, via phone at 703-358-2469 or via email at amanda_murnane@fws.gov. For information on specific permits, see the contact information below in Permits Issued. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, provide a list to the public of the permits issued under sections 10(a)(1)(A) and 10(a)(1)(B) of the Endangered Species Act of 1973 (ESA; 16 U.S.C. 1531 et seq.), as amended The lists of 10(a)(1)(A) permits are published in accordance with section 10(d) of the ESA, and the lists of 10(a)(1)(B) permits are published in accordance with chapter 16 the Habitat Conservation Planning Handbook, developed by the Service in cooperation with the National Marine Fisheries Service, and available at https://www.fws.gov/media/habitat-conservation-planning-and-incidental-take-permit-processing-handbook (December 21, 2016; 81 FR 93702). With some exceptions, the ESA prohibits take of listed species unless a Federal permit is issued that authorizes the taking, or the take is exempted through section 7 of the ESA. Under section 10(a)(1)(A) of the ESA, we issue enhancement of survival permits in conjunction with candidate conservation agreements with assurances (CCAAs) and safe harbor agreements (SHAs). Section 10(a)(1)(A) also authorizes recovery permits. Section 10(a)(1)(B) permits authorize take of listed species incidental to otherwise lawful activities associated with conservation plans (also known as HCPs). We provide this list to the public as a summary of our permit issuances for CCAAs, SHAs, HCPs, and recovery permits for calendar year 2022.

Background

Under the authority of section 10(a)(1)(A) of the ESA, we have issued enhancement of survival permits to conduct activities that provide a conservation benefit for endangered or threatened species, or for unlisted species should they become listed in the future, in response to permit applications that we received in conjunction with a SHA or a CCAA.

Recovery permits have been issued under ESA section 10(a)(1)(A) to allow for take as part of activities intended to foster the recovery of listed species, typically for scientific research in order to understand better the species' long-term survival needs.

Under ESA section 10(a)(1)(B), we may issue permits for any taking otherwise prohibited by ESA section 9 if such taking is incidental to, and not the purpose of, carrying out an otherwise lawful activity (known as an incidental take permit (ITP)) and the permit applicant submits a conservation plan (HCP) that meets the permit issuance criteria under section 10(a)(2)(B). Typically, applicants seek an ITP to conduct activities such as residential and commercial development, infrastructure development or maintenance, and energy development projects that range in scale from small to landscape-level planning efforts.

The permits associated with SHAs, CCAAs, HCPs, and recovery activities that we issued between January 1 and December 31, 2022, are listed below.

Under section 10(a)(1)(A), we issued each permit only after we determined that it was applied for in good faith; that granting the permit would not be to the disadvantage of the listed species, or to the unlisted species should it be listed; that the proposed activities would benefit the recovery or the enhancement of survival of the species; and that the terms and conditions of the permits were consistent with the purposes and policy set forth in the ESA.

Under section 10(a)(1)(B), we issued permits only after we determined that the applicant was eligible and had submitted a complete application and HCP that fully met the permit issuance criteria consistent with section 10(a)(2)(B).

Permits Issued

Region 1 (Hawaii, Idaho, Oregon (Except for the Klamath Basin), Washington, American Samoa, Commonwealth of the Northern Mariana Islands, Guam, and the Pacific Trust Territories)

The following permits, sorted by type of permit or agreement and date issued in the table below, were applied for and issued by the Regional office responsible for section 10 permitting in the States and territories listed above.

HCPs, CCAAs, and SHAs

For more information about any of the following HCP, CCAA, or SHA permits, contact the HCP, CCAA, or SHA permit coordinator at ITEOSpermitsR1ES@fws.gov or by phone at 503-231-6131.

Recovery Permits

For more information about any of the following recovery permits, contact the Recovery Permit Coordinator by email at PermitsR1ES@fws.gov or by telephone at 503-231-6131.

Permit No. | Version No. | Permit type | Permittee | Date issued
PER0043489 | 0 | HCP | Thurston County Public Works | 7/1/2022
PER0027935 | 0 | Recovery | Confederated Tribes of Warm Springs—Hood River | 1/10/2022
72986A | 2 | Recovery | Washington Department of Natural Resources, Olympic Region | 1/10/2022
48278D | 3 | Recovery | Archipelago Research and Conservation | 2/1/2022
08607C | 1 | Recovery | Samish Indian Nation | 2/11/2022
PER0010822 | 0 | Recovery | Ecostudies Institute | 2/17/2022
PER0002970 | 1 | Recovery | Nisqually National Wildlife Refuge Complex | 2/18/2022
PER0021508 | 1 | Recovery | Environmental Assessment Services, LLC | 2/28/2022
049004 | 11 | Recovery | Bureau of Indian Affairs, Northwest Regional Office | 3/2/2022
19045C | 3 | Recovery | Hawaii Division of Forestry and Wildlife | 3/9/2022
841627 | 9 | Recovery | Richard P Gerhardt | 3/16/2022
012136 | 6 | Recovery | Oregon Department of Environmental Quality | 3/16/2022
022743 | 7 | Recovery | Grant County Public Utility District #2 | 4/4/2022
67121B | 2 | Recovery | Pacific Rim Conservation | 4/7/2022
PER0036811 | 0 | Recovery | 3 Rivers Environmental | 4/21/2022
PER0037726 | 0 | Recovery | Mount Hood Environmental, LLC | 4/28/2022
PER0029891 | 0 | Recovery | Greenbelt Land Trust | 5/11/2022
146777 | 7 | Recovery | Arleone Dibben-Young | 5/12/2022
PER0009546 | 1 | Recovery | Washington State University, Vancouver | 5/12/2022
PER0008917 | 1 | Recovery | Institute for Applied Ecology | 5/20/2022
22702C | 2 | Recovery | Intermountain Bird Observatory | 5/25/2022
030394 | 4 | Recovery | King County Department of Natural Resources and Parks | 5/26/2022
040827 | 6 | Recovery | Washington Department of Natural Resources, Pacific Cascade Region | 5/27/2022
PER0036534 | 0 | Recovery | Oregon Coast Aquarium | 6/1/2022
PER0037813 | 0 | Recovery | Rogue Detection Teams, LLC | 6/8/2022
42195A | 3 | Recovery | U.S. Department of The Navy, Naval Base Guam | 6/10/2022
PER0038282 | 0 | Recovery | Brian Sidlauskas | 6/22/2022
005885 | 6 | Recovery | Seattle City Light | 7/15/2022
PER0039992 | 0 | Recovery | Portland State University, Institute for Natural Resources | 7/21/2022
227268 | 5 | Recovery | Columbia River Inter-Tribal Fish Commission | 8/2/2022
PER0042958 | 0 | Recovery | Patti Wohner | 8/4/2022
088853 | 3 | Recovery | Windward Environmental LLC | 8/4/2022
92903B | 1 | Recovery | Skagit Fisheries Enhancement Group | 8/4/2022
PER0043986 | 0 | Recovery | Montgomery Botanical Center | 8/15/2022
35731D | 1 | Recovery | Lanai Resorts, LLC | 8/18/2022
PER0042992 | 0 | Recovery | Tyler Breech | 8/24/2022
39372B | 3 | Recovery | Portland State University, Institute for Natural Resources | 8/25/2022
97807A | 2 | Recovery | Oregon Parks and Recreation Department | 9/1/2022
040238 | 10 | Recovery | Yakama Nation Wildlife Program | 9/7/2022
001598 | 7 | Recovery | Bureau of Indian Affairs—Nez Perce Tribe | 9/14/2022
018078 | 22 | Recovery | Hawaii Volcanoes National Park | 9/22/2022
PER0051128 | 0 | Recovery | Southern Oregon Land Conservancy | 9/22/2022
19076C | 1 | Recovery | Guam Department of Agriculture—Division of Aquatic and Wildlife Resources | 9/28/2022
PER0043976 | 0 | Recovery | South Puget Sound Salmon Enhancement Group | 10/13/2022
78052A | 2 | Recovery | Coastal Watershed Institute | 10/19/2022
67157D | 1 | Recovery | Oregon State University | 10/26/2022
702631 | 31 | Recovery | U.S. Fish and Wildlife Service, Region 1 | 10/31/2022
31672C | 1 | Recovery | U.S. Army Corps of Engineers, Engineer Research and Development Center, Cold Regions Research and Engineering Laboratory | 11/2/2022
PER0051869 | 0 | Recovery | U.S. Geological Survey—Western Ecological Research Center | 11/3/2022
PER0046327 | 0 | Recovery | Marie E. Martin | 12/13/2022
22353B | 4 | Recovery | Center for Natural Lands Management | 12/16/2022
86204A | 0 | SHA | Broughton Lumber Company | 1/12/2022
PER0028241 | 0 | SHA | Series One of Twin Creeks, LLC | 1/12/2022
PER0028235 | 0 | SHA | Lupine Forest, LLC | 1/12/2022

Region 2 (Arizona, New Mexico, Oklahoma, and Texas)

The following permits, sorted by type of permit or agreement and date issued in the table below, were applied for and issued by the Regional office responsible for section 10 permitting in the States listed above.

HCPs and CCAAs

For more information about any of the following HCP or CCAA permits, contact the HCP or CCAA Permit Coordinator by email at FW2_HCP_Permits@fws.gov or by telephone at 505-248-6651.

Recovery Permits

For more information about any of the following recovery permits, contact the Recovery Permit Coordinator by email at PermitsR2ES@fws.gov or by telephone at 505-248-6649.

Permit No. | Version No. | Permit type | Permittee | Date issued
72923A | 2 | CCAA | Oklahoma Department of Wildlife Conservation | 5/12/2022
PER0038822 | 0 | CCAA | Texas Parks and Wildlife | 7/1/2022
PER0038828 | 0 | CCAA | Center of Excellence for Hazardous Materials Management | 8/16/2022
PER0038828 | 1 | CCAA | Center of Excellence for Hazardous Materials Management | 9/27/2022
PER0038832 | 0 | HCP | LPC Conservation, LLC | 5/27/2022
039544 | 1 | Recovery | Michael Forstner | 1/7/2022
24805C | 1 | Recovery | Jennifer Stone | 1/14/2022
PER0021630 | 0 | Recovery | Hannah Wilson | 1/21/2022
TE99159B | 0 | Recovery | Eli J. Ellis | 1/21/2022
830271 | 1 | Recovery | Gladys Porter Zoo | 1/21/2022
37047A | 2 | Recovery | Sea World of Texas | 1/28/2022
PER0024337 | 2 | Recovery | East Foundation | 1/28/2022
PER0033846 | 0 | Recovery | Javan Bauder | 2/4/2022
PER0027727 | 0 | Recovery | Leneka Cook | 2/7/2022
068189 | 1 | Recovery | Archaeological Consulting Services—A Commonwealth Heritage Group, Inc. Company | 2/14/2022
PER0033071 | 0 | Recovery | Edward Nicholson | 2/18/2022
PER0027936 | 0 | Recovery | Tucson Audubon Society | 2/18/2022
25781D | 1 | Recovery | Atkins North America, Inc (Member of the SNC-Lavalin Group) | 2/18/2022
TE63200B | 0 | Recovery | National Audubon Society | 2/18/2022
65030D | 1 | Recovery | The Peregrine Fund | 2/18/2022
822908 | 1 | Recovery | Caesar Kleberg Wildlife Research Institute—Texas A&M University—Kingsville | 2/18/2022
PER0024555 | 0 | Recovery | Harpo Faust | 3/4/2022
PER0013385 | 1 | Recovery | Sea Turtle, Inc | 3/7/2022
PER0005103 | 0 | Recovery | Darren Proppe | 3/28/2022
02164C | 2 | Recovery | University of Arizona | 3/28/2022
830177 | 2 | Recovery | University of Texas at Austin—Marine Science Institute | 3/28/2022
037155 | 1 | Recovery | Bio-West, Inc | 3/29/2022
32917C | 2 | Recovery | Ashley Long | 4/4/2022
TE35437B | 0 | Recovery | U.S. Forest Service—Santa Fe National Forest | 4/4/2022
00023643 | 0 | Recovery | Department of the Army, Fort Hood, Texas, Natural Resources Branch | 4/4/2022
PER0036357 | 0 | Recovery | Rocky Mountain Bird Observatory | 4/12/2022
PER0030658 | 0 | Recovery | Shannon Lencioni | 4/14/2022
045236 | 4 | Recovery | SWCA, Inc | 4/15/2022
PER0034949 | 0 | Recovery | Jesse T. Berryhill | 4/18/2022
776123 | 2 | Recovery | Texas A&M University—Galveston | 4/18/2022
PER0034894 | 0 | Recovery | Megan Lamont | 4/20/2022
PER0030551 | 0 | Recovery | William G. Terry | 4/25/2022
53840A | 3 | Recovery | David Griffin | 4/25/2022
PER0031454 | 0 | Recovery | Chauncey Gadek | 4/25/2022
PER0031587 | 0 | Recovery | Audrey Sanchez | 4/25/2022
64616B | 1 | Recovery | National Park Service Valles Caldera National Preserve | 4/25/2022
828830 | 1 | Recovery | Bureau of Land Management—Tucson Field Office | 4/25/2022
PER0034328 | 0 | Recovery | USGS—NMCFWRU | 4/25/2022
821577 | 0 | Recovery | Arizona Game and Fish Department | 4/29/2022
PER0029738 | 0 | Recovery | Michael Pebworth | 5/2/2022
78414B | 1 | Recovery | Antoinette Taylor | 5/2/2022
PER0030609 | 0 | Recovery | Alec Wolsiefer | 5/2/2022
827726 | 4 | Recovery | U.S. Forest Service—Tonto National Forest | 5/2/2022
PER0004032 | 0 | Recovery | Horizon Environmental Services, Inc | 5/2/2022
006655 | 0 | Recovery | Logan Simpson Design Inc | 5/3/2022
PER0029468 | 0 | Recovery | Jeffrey T. Jenkerson | 5/6/2022
34460C | 2 | Recovery | Grouse Mountain Environmental Consultants, LLC | 5/6/2022
67491A | 4 | Recovery | Permits West, Inc | 5/6/2022
42739A | 1 | Recovery | Sea Life Arizona | 5/6/2022
75678D | 1 | Recovery | Sonoran Institute | 5/6/2022
63651A | 3 | Recovery | Power Engineers, Inc | 5/16/2022
02234C | 1 | Recovery | University of Arizona | 5/27/2022
PER0034050 | 0 | Recovery | Bureau of Land Management—Phoenix | 5/31/2022
96189B | 1 | Recovery | Adam Terry | 6/3/2022
168189 | 2 | Recovery | Rebekah Rylander | 6/17/2022
PER0034050 | 1 | Recovery | Bureau of Land Management—Phoenix | 6/17/2022
PER0008817 | 1 | Recovery | U.S. Forest Service—Cibola National Forest | 6/17/2022
91694B | 1 | Recovery | Steven Cramer | 6/18/2022
44542B | 5 | Recovery | Olsson Associates | 6/18/2022
PER0005142 | 1 | Recovery | USGS—Idaho Cooperative Fish & Wildlife Research Unit | 6/29/2022
PER0047179 | 0 | Recovery | Edwards Aquifer Authority | 7/7/2022
PER0034599 | 0 | Recovery | Bowman Consulting Group | 7/8/2022
PER0012490 | 1 | Recovery | USDA Forest Service Enterprise Program | 7/8/2022
24806C | 1 | Recovery | Reuvin Woodrow | 7/11/2022
839848 | 4 | Recovery | USDA Forest Service—Carson National Forest | 7/11/2022
PER0044606 | 0 | Recovery | Bureau of Land Management—Arizona Strip Field Office | 7/11/2022
PER0043053 | 0 | Recovery | zoOceanarium Group | 7/11/2022
PER0012186 | 0 | Recovery | San Antonio Aquarium | 7/11/2022
PER0004581 | 1 | Recovery | Sarah Weber | 7/25/2022
PER0029467 | 0 | Recovery | Nicholas S. Gladstone | 7/25/2022
PER0030652 | 0 | Recovery | Marvin Miller | 7/25/2022
PER0035041 | 0 | Recovery | Kelsey A. Anderson | 7/25/2022
PER0030655 | 0 | Recovery | Jenny Wallgren | 7/25/2022
PER0012660 | 1 | Recovery | The Peregrine Fund | 7/26/2022
88227B | 1 | Recovery | Jay Deatherage | 7/30/2022
PER0029730 | 0 | Recovery | Jacqueline Prescott | 7/30/2022
34462C | 2 | Recovery | Dennis Mengel | 7/30/2022
PER0042604 | 0 | Recovery | New Mexico Museum of Natural History & Science | 7/30/2022
PER0040491 | 0 | Recovery | Milu Velardi | 8/9/2022
PER0041932 | 0 | Recovery | Gianna E. Barolin | 8/18/2022
206016 | 2 | Recovery | Andrew Middick | 8/18/2022
44542B | 6 | Recovery | Olsson Associates | 8/18/2022
054791 | 6 | Recovery | Bryce Marshall | 8/24/2022
87857B | 1 | Recovery | Eric N. Green | 8/26/2022
87860B | 1 | Recovery | Dana Green | 8/26/2022
63202B | 2 | Recovery | Carol Chambers | 8/26/2022
PER0044245 | 0 | Recovery | U.S. Geological Survey, Oklahoma Cooperative Fish and Wildlife Research Unit | 8/26/2022
PER0044974 | 0 | Recovery | Patrick C. Boatright | 9/2/2022
71777D | 1 | Recovery | Jennifer L. Lisignoli | 9/2/2022
819491 | 2 | Recovery | Ecosphere Environmental Services | 9/2/2022
PER0008061 | 1 | Recovery | EcoPlan Associates, Inc | 9/2/2022
PER0009588 | 1 | Recovery | Bureau of Land Management—Tucson Field Office | 9/24/2022
50370D | 1 | Recovery | Helen Poulos | 9/30/2022
PER0050886 | 0 | Recovery | Andrew T. Holycross | 9/30/2022
PER0041635 | 0 | Recovery | Cody J. Gregory | 10/3/2022
11267C | 2 | Recovery | Marissa A. Buschow | 10/7/2022
836329 | 2 | Recovery | Blanton & Associates, Inc | 10/7/2022
PER0030655 | 1 | Recovery | Jenny Wallgren | 10/12/2022
PER0009523 | 1 | Recovery | SWCA Environmental Consultants | 10/12/2022
PER0055127 | 0 | Recovery | BFS Environmental | 10/12/2022
794593 | 5 | Recovery | Texas State Aquarium | 10/12/2022
PER0034621 | 0 | Recovery | Brenda Molano-Flores | 10/27/2022
19907C | 1 | Recovery | Amanda L. Miller | 10/27/2022
64968A | 1 | Recovery | Apex Companies, LLC | 10/27/2022
836329 | 3 | Recovery | Blanton & Associates, Inc | 10/27/2022
PER0051924 | 0 | Recovery | Nathan Petersen | 11/8/2022
799103 | 2 | Recovery | Hicks & Company | 11/13/2022
PER0009588 | 2 | Recovery | Bureau of Land Management—Tucson Field Office | 11/17/2022
64619B | 2 | Recovery | Dustin Wood | 11/18/2022
840727 | 4 | Recovery | National Park Service | 11/18/2022
PER0042593 | 0 | Recovery | Kurt H. Gielow | 11/23/2022
PER0051968 | 0 | Recovery | Alexandra Thompson | 12/6/2022
PER0046174 | 0 | Recovery | Derek Hausmann | 12/8/2022
PER0051559 | 0 | Recovery | Texas A&M University—Mateos Lab | 12/8/2022
840727 | 5 | Recovery | National Park Service | 12/12/2022
797127 | 2 | Recovery | U.S. Army Corps of Engineers—Albuquerque District | 12/14/2022
PER0035222 | 0 | Recovery | Desert Botanical Garden | 12/23/2022
PER0009587 | 1 | Recovery | Jean Marie L. Rieck | 12/28/2022
814933 | 1 | Recovery | Texas Parks And Wildlife Department | 12/28/2022
146407 | 1 | Recovery | Anchor QEA, LLC | 12/28/2022
PER0048320 | 0 | Recovery | U.S. Fish and Wildlife Service, Region 2 | 12/28/2022

Region 3 (Illinois, Indiana, Iowa, Michigan, Minnesota, Missouri, Ohio, and Wisconsin)

The following permits, sorted by type of permit or agreement and date issued in the table below, were applied for and issued by the Regional office responsible for section 10 permitting in the States listed above.

HCPs

For more information about any of the following HCP or CCAA permits, contact the HCP Permit Coordinator at permitsR3ES@fws.gov or by telephone at 612-713-5343.

Recovery Permits

For more information about any of the following recovery permits, contact the Recovery Permit Coordinator by email at PermitsR3ES@fws.gov or by telephone at 612-713-5343.

Permit No. | Version No. | Permit type | Permittee | Date issued
PER0035352 | 0 | HCP | Missouri Department of Conservation | 2/23/2022
PER0036249 | 0 | HCP | Indiana Crossroads Wind Farm, LLC | 3/2/2022
PER0025999 | 0 | HCP | EDP Renewables North America | 4/22/2022
PER0041915 | 1 | HCP | Ford County Wind Farm, LLC | 4/29/2022
17852A | 1 | HCP | Constellation Energy Generation, LLC | 6/23/2022
PER0047664 | 0 | HCP | Green River Wind Farm Phase I, LLC | 7/29/2022
PER0047644 | 0 | HCP | Sugar Creek Wind One, LLC | 8/26/2022
PER0051046 | 0 | HCP | Aitkin and Carlton Counties, MN | 9/14/2022
85232B | 2 | Recovery | Zachary Kaiser | 1/24/2022
35517B | 3 | Recovery | Bryan Arnold | 2/3/2022
120259 | 6 | Recovery | Missouri Department of Conservation | 2/21/2022
182436 | 8 | Recovery | Illinois Natural History Survey | 2/22/2022
03450B | 2 | Recovery | Erin Basiger | 2/23/2022
94321A | 3 | Recovery | Brian O'Neill | 2/23/2022
25752C | 1 | Recovery | Edward Lowe Foundation | 2/23/2022
03495B | 3 | Recovery | Kristina Hammond | 2/25/2022
81968B | 2 | Recovery | Curtis Hart | 2/25/2022
02365A | 5 | Recovery | Lynn Robbins | 3/1/2022
217351 | 4 | Recovery | U.S. Forest Service | 3/4/2022
PER0002767 | 0 | Recovery | Giovanni Pambianchi | 3/8/2022
PER0002430 | 0 | Recovery | David Ford | 3/8/2022
30234C | 1 | Recovery | Illinois Natural History Survey | 3/10/2022
99051B | 2 | Recovery | Goniela Iskali | 3/16/2022
77313A | 4 | Recovery | Egret Environmental Consulting, LLC | 3/18/2022
98673B | 1 | Recovery | Jason Layne | 3/28/2022
PER0003023 | 1 | Recovery | Samuel A. Schratz | 3/29/2022
13571C | 1 | Recovery | Jennifer Moore | 4/1/2022
PER0032392 | 1 | Recovery | Jeffrey G. Davis | 4/1/2022
049738 | 12 | Recovery | Third Rock Consultants, LLC | 4/8/2022
023666 | 7 | Recovery | Eric Britzke | 4/12/2022
15676C | 2 | Recovery | University of Illinois | 4/12/2022
181256 | 5 | Recovery | Lewis Environmental Consulting, LLC | 4/20/2022
85233B | 1 | Recovery | Shelly Colatskie | 4/21/2022
PER0032362 | 0 | Recovery | Robert Weck | 4/22/2022
95228C | 1 | Recovery | Terry VanDeWalle | 4/27/2022
PER0034538 | 0 | Recovery | Toledo Zoological Society | 4/28/2022
PER0007017 | 0 | Recovery | Elisabeth Hollinden | 5/10/2022
06873B | 4 | Recovery | Andrew Carson | 5/10/2022
206781 | 11 | Recovery | Ecoanalysts, Inc. | 5/10/2022
PER0037422 | 0 | Recovery | Levi Miller | 5/13/2022
PER0037601 | 0 | Recovery | Jeremiah L. Van Deventer | 5/13/2022
71718A | 4 | Recovery | Bradley Steffen | 5/13/2022
28570D | 2 | Recovery | Midwest Natural Resources, Inc. | 5/13/2022
38821A | 5 | Recovery | Stantec Consulting Services, Inc. | 5/20/2022
02560A | 7 | Recovery | Timothy Carter | 5/23/2022
27915B | 3 | Recovery | Wildlife Specialists, LLC | 5/23/2022
38842A | 9 | Recovery | Sanders Environmental, Inc. | 5/24/2022
34563C | 3 | Recovery | Henry Campa | 5/26/2022
69825D | 1 | Recovery | Michigan State University | 5/31/2022
40247C | 3 | Recovery | Minnesota Department of Natural Resources | 6/2/2022
PER0037956 | 0 | Recovery | Cory Murphy | 6/8/2022
PER0037865 | 0 | Recovery | Mark Hove | 6/9/2022
06820A | 3 | Recovery | Russell Benedict | 6/15/2022
PER0039249 | 0 | Recovery | Meredith L. Hoggatt | 6/23/2022
38835A | 3 | Recovery | Land Conservancy of West Michigan | 6/24/2022
PER0039248 | 0 | Recovery | Jacob R. Powell | 6/30/2022
43541A | 4 | Recovery | Francesca Cuthbert | 7/1/2022
130900 | 10 | Recovery | Enviroscience, Inc. | 7/5/2022
PER0002574 | 0 | Recovery | Missouri Department of Conservation | 7/7/2022
PER0044063 | 0 | Recovery | Bruce R. Galer | 7/12/2022
PER0039255 | 0 | Recovery | Ryan Schwegman | 7/15/2022
PER0042011 | 0 | Recovery | Dragons Wynd | 7/15/2022
PER0039690 | 1 | Recovery | Iowa State University | 7/29/2022
92978B | 0 | Recovery | Helms & Associates | 8/8/2022
88224B | 3 | Recovery | Joe Snavely | 9/9/2022
64080B | 2 | Recovery | Michigan Natural Features Inventory—Michigan State University | 9/12/2022
81973B | 1 | Recovery | USDA Forest Service | 9/19/2022
30234C | 2 | Recovery | Illinois Natural History Survey | 9/23/2022
85228B | 2 | Recovery | Eric S. Schroder | 11/4/2022
PER0055380 | 0 | Recovery | Doug Wynn, LLC | 11/10/2022
07358A | 12 | Recovery | Civil and Environmental Consultants, Inc. | 11/15/2022
PER0038948 | 0 | Recovery | USDA Forest Service | 11/21/2022
71680A | 3 | Recovery | Megan Martin | 12/7/2022
04397C | 1 | Recovery | Giorgianna Auteri | 12/7/2022
27007C | 2 | Recovery | Christopher E. Smith | 12/8/2022
26856C | 3 | Recovery | Sean Langley | 12/13/2022
71821A | 4 | Recovery | David Zanatta | 12/13/2022

Region 4 (Alabama, Arkansas, Florida, Georgia, Kentucky, Louisiana, Mississippi, North Carolina, South Carolina, Tennessee, the Commonwealth of Puerto Rico, and the U.S. Virgin Islands)

The following permits, sorted by type of permit or agreement and date issued in the table below, were applied for and issued by the Regional office responsible for section 10 permitting in the States and territories listed above.

HCPs and SHA

For more information about any of the following HCPs or SHA, contact the HCP Permit Coordinator by email at PermitsR4ES@fws.gov or by telephone at 404-679-7140.

Recovery Permits

For more information about any of the following recovery permits, contact the Recovery Permit Coordinator by email at PermitsR4ES@fws.gov or by telephone at 404-679-7140.

Permit No. | Version No. | Permit type | Permittee | Date issued
46613D | 0 | HCP | Stillwater C. Assets, LLC | 1/4/2022
97186B | 1 | HCP | Star McKelvey | 1/6/2022
28106D | 1 | HCP | James & Anita Smith | 1/6/2022
057585 | 1 | HCP | Greg Voges | 1/7/2022
PER0024783 | 0 | HCP | Gayle Dotts | 1/7/2022
48931D | 1 | HCP | City of Orange Beach | 1/20/2022
87973C | 2 | HCP | HycheFam, LLC | 1/21/2022
56402D | 2 | HCP | AMH Development, LLC | 1/27/2022
PER0028836 | 0 | HCP | Marlene Crawford | 2/2/2022
PER0032879 | 0 | HCP | Sara Detweiler | 2/8/2022
PER0017213 | 0 | HCP | Florida's Turnpike Enterprise | 2/9/2022
PER0035035 | 0 | HCP | Jeffrey Rosen | 3/17/2022
PER0037959 | 0 | HCP | Robert Hoffmann | 3/21/2022
PER0037707 | 0 | HCP | Giles Cronen | 3/21/2022
PER0032005 | 0 | HCP | Melton Schofield | 4/4/2022
88370B | 1 | HCP | Conrad Francis | 4/4/2022
PER0034924 | 0 | HCP | Kimberly A. Ison | 4/18/2022
155088 | 3 | HCP | CL Investments, LLC | 4/19/2022
PER0015886 | 0 | HCP | Bio-Tech Consulting, Inc | 4/25/2022
PER0040587 | 0 | HCP | Stephen Maxwell | 5/6/2022
PER0041066 | 0 | HCP | Stephen L. Elliott | 5/6/2022
PER0009234 | 1 | HCP | LJW Properties, LLC | 5/6/2022
PER0040534 | 0 | HCP | Justin M. Hicks | 5/9/2022
PER0017031 | 0 | HCP | Bio-Tech Consulting, Inc | 5/9/2022
PER0039260 | 0 | HCP | Blendi Cumani | 5/13/2022
PER0017025 | 0 | HCP | Bio-Tech Consulting, Inc | 5/13/2022
PER0041055 | 0 | HCP | Stephen L. Elliott | 5/16/2022
15009C | 1 | HCP | Coral Reef Retail LLC, Coral Reef Resi Ph 1, LLC | 5/18/2022
PER0042524 | 0 | HCP | Gerald V. Podbel | 5/23/2022
PER0043506 | 0 | HCP | George Cummans | 5/23/2022
PER0027719 | 0 | HCP | Rhonda Barber | 6/13/2022
PER0043127 | 0 | HCP | Phuoc Nguyen | 6/13/2022
PER0041090 | 0 | HCP | Matthew Collins | 6/13/2022
PER0043524 | 0 | HCP | Ronald Robb | 6/15/2022
PER0045932 | 0 | HCP | Patrick Eidson | 6/17/2022
PER0046015 | 0 | HCP | Waters Edge Property Management, LLC | 6/23/2022
PER0046141 | 0 | HCP | Ramanath Bhardari | 6/24/2022
PER0034609 | 0 | HCP | Polk County Board of County Commissioners, Political Subdivision of State of Florida | 6/24/2022
PER0041974 | 0 | HCP | Donna McKillip | 6/28/2022
PER0034629 | 0 | HCP | Polk County Board of County Commissioners, Political Subdivision of State of Florida | 7/7/2022
PER0017037 | 0 | HCP | Bio-Tech Consulting, Inc | 7/8/2022
PER0031364 | 0 | HCP | Brett Real Estate Robinson Development Co. | 7/13/2022
PER0045951 | 0 | HCP | Richard Jordan | 7/14/2022
PER0048026 | 0 | HCP | Steel Bridge Properties, LLC | 7/14/2022
PER0046173 | 0 | HCP | Michelle Garmon | 7/15/2022
PER0046247 | 0 | HCP | Chris McKenna | 7/19/2022
44585A | 1 | HCP | The Nature Conservancy, Arkansas Field Office | 7/25/2022
PER0046171 | 0 | HCP | Thomas Gossett | 7/26/2022
71873D | 1 | HCP | Howard Foulks | 7/26/2022
PER0034180 | 0 | HCP | Cheryle D. Greene | 8/4/2022
PER0048291 | 0 | HCP | Elle Fish Design, LLC | 8/4/2022
PER0027573 | 0 | HCP | Peter Famulari | 8/10/2022
PER0028220 | 0 | HCP | Peter Famulari | 8/10/2022
PER0028219 | 0 | HCP | Peter Famulari | 8/10/2022
PER0028218 | 0 | HCP | Peter Famulari | 8/10/2022
PER0050954 | 0 | HCP | JJR Investments, LLC | 8/11/2022
PER0045745 | 1 | HCP | Conrad Francis | 8/18/2022
PER0047459 | 0 | HCP | Benton Wheeler | 8/18/2022
PER0046055 | 0 | HCP | McKay Comm 26th #1 | 8/18/2022
PER0051033 | 0 | HCP | Benjamin and Judith Braselton | 9/2/2022
PER0021750 | 0 | HCP | Bio-Tech Consulting, Inc | 9/6/2022
PER0012910 | 0 | HCP | Stewart Materials, LLC | 9/6/2022
PER0047661 | 0 | HCP | James Ford | 9/8/2022
PER0047315 | 0 | HCP | Gerald Sullivan | 9/8/2022
PER0034186 | 1 | HCP | Pamela Dace | 9/9/2022
PER0048026 | 1 | HCP | Steel Bridge Properties LLC | 9/9/2022
PER0015099 | 0 | HCP | Bio-Tech Consulting, Inc | 9/20/2022
PER0026087 | 0 | HCP | Austin Environmental Consultants, Inc | 9/26/2022
PER0028829 | 0 | HCP | Austin Environmental Consultants, Inc | 9/26/2022
PER0045956 | 0 | HCP | Terrell Murphree | 9/27/2022
078828 | 2 | HCP | Ramanath Bhardari | 10/3/2022
PER0051048 | 0 | HCP | Nancy Thompson | 10/5/2022
PER0054577 | 0 | HCP | HycheFam LLC | 10/6/2022
PER0052209 | 0 | HCP | Level Up Growth Solutions, LLC | 10/13/2022
PER0039153 | 0 | HCP | LIT BLV FL Old Lake Wilson Rd Phase 1 Owner, LLC | 10/13/2022
PER0046168 | 0 | HCP | Peter Moret | 10/17/2022
PER0004036 | 1 | HCP | Finlay Holdings, LLC | 10/19/2022
PER0055774 | 0 | HCP | HycheFam LLC | 10/20/2022
PER0055461 | 0 | HCP | CL Investments, Llc | 10/21/2022
PER0045956 | 1 | HCP | Terrell Murphree | 11/1/2022
PER0028774 | 0 | HCP | Bio-Tech Consulting, Inc | 11/1/2022
PER0050427 | 0 | HCP | Robbins Investment Company, LLC | 11/3/2022
PER0053900 | 0 | HCP | Timothy and Lora Carpentier | 11/8/2022
PER0053370 | 0 | HCP | Steve Madary | 11/9/2022
PER0049071 | 0 | HCP | Polk County | 11/9/2022
PER0053117 | 0 | HCP | Finlay Holdings, LLC | 11/14/2022
PER0056082 | 0 | HCP | Peter Sedrak | 11/15/2022
PER0056079 | 0 | HCP | Peter Sedrak | 11/15/2022
PER0055994 | 0 | HCP | Fawzy Sedrak | 11/15/2022
PER0055986 | 0 | HCP | Fawzy Sedrak | 11/15/2022
PER0055901 | 0 | HCP | Craig Martin | 11/17/2022
PER0039939 | 0 | HCP | Monroe County Board of County Commissioners | 11/28/2022
PER0057104 | 0 | HCP | Tammy Silcox | 12/1/2022
PER0072654 | 0 | HCP | Sheri Steffens | 12/13/2022
PER0057101 | 0 | HCP | JJR Investments, LLC | 12/14/2022
PER0057099 | 0 | HCP | Jonathan Hall | 12/15/2022
PER0053106 | 0 | HCP | Michael Jenkins | 12/16/2022
010099 | 1 | HCP | Breedlove, Dennis & Associates, Inc | 12/19/2022
PER0050424 | 0 | HCP | CG Citrus, LLC (Sunset Reserve) | 12/19/2022
PER0122542 | 0 | HCP | Jim Brown | 12/20/2022
PER0084995 | 0 | HCP | Kenneth R. Cole | 12/27/2022
PER0057109 | 0 | HCP | ERSALLOG | 12/27/2022
06338C | 2 | Recovery | David A. Foltz, II | 1/5/2022
206741 | 3 | Recovery | Metro Water Services | 1/7/2022
PER0002899 | 0 | Recovery | George C. Fullerton | 1/11/2022
049654 | 9 | Recovery | William Gordon | 1/12/2022
PER0009923 | 0 | Recovery | South Carolina Department of Natural Resources | 1/14/2022
PER0025236 | 0 | Recovery | Jeffrey K. McDaniel | 1/24/2022
PER0026038 | 0 | Recovery | James T. LoBello | 1/31/2022
PER0020570 | 0 | Recovery | Nkereuwem Umoh | 2/2/2022
PER0017981 | 0 | Recovery | Aliesha Dean | 2/2/2022
022690 | 5 | Recovery | Meadowview Biological Research Station | 2/2/2022
34882A | 3 | Recovery | Mark A. Bailey | 2/8/2022
PER0029348 | 0 | Recovery | Will Seymour | 2/28/2022
PER0034211 | 0 | Recovery | Paul Huang | 2/28/2022
PER0033509 | 0 | Recovery | Eric Bitler | 2/28/2022
PER0026176 | 0 | Recovery | Martin Rizor | 3/17/2022
PER0034671 | 0 | Recovery | Christopher Daniel | 3/22/2022
18825B | 1 | Recovery | Timothy W. Savidge | 3/29/2022
59798B | 2 | Recovery | Daguna Consulting, LLC | 3/29/2022
88778B | 2 | Recovery | John W. Lamb | 3/30/2022
PER0034713 | 0 | Recovery | Liana Yang | 3/31/2022
PER0002729 | 0 | Recovery | Raymond Ward | 4/1/2022
PER0022451 | 0 | Recovery | Francisco A. Abreu | 4/1/2022
132772 | 2 | Recovery | USDA Forest Service National Forests in Alabama | 4/11/2022
12399A | 5 | Recovery | Audubon Nature Institute | 4/12/2022
087176 | 4 | Recovery | David Eisenhour | 4/13/2022
PER0002725 | 0 | Recovery | Angelina D. Fowler | 4/13/2022
65002A | 2 | Recovery | Robert Oney | 4/15/2022
83011B | 1 | Recovery | Prescott Weldon | 4/15/2022
148282 | 6 | Recovery | Jack (J.D.) Wilhide | 4/16/2022
171577 | 5 | Recovery | Fort Chaffee Joint Maneuver Training Center | 4/16/2022
PER0002667 | 0 | Recovery | Mitchell D. Kriege | 4/18/2022
100012 | 5 | Recovery | Alabama Coastal Foundation | 4/26/2022
237537 | 2 | Recovery | Missouri Botanical Garden | 4/27/2022
PER0007863 | 0 | Recovery | Jana M. Day | 4/28/2022
PER0034674 | 0 | Recovery | Alex Pepper | 5/9/2022
069754 | 7 | Recovery | Gerald R. Dinkins | 5/10/2022
121073 | 3 | Recovery | Christopher E. Skelton | 5/10/2022
13910A | 3 | Recovery | Terry L. Derting | 5/12/2022
60238B | 1 | Recovery | Georgia Museum of Natural History | 5/12/2022
94849B | 2 | Recovery | Copperhead Environmental Consulting, Inc | 5/13/2022
32397A | 5 | Recovery | James Godwin | 5/19/2022
111326 | 3 | Recovery | Chris A. Fleming | 5/19/2022
34778A | 3 | Recovery | U.S. Geological Survey | 5/20/2022
PER0042292 | 0 | Recovery | Travis S. Cox | 5/25/2022
PER0034613 | 0 | Recovery | Brittany L. Blake | 5/25/2022
25612A | 2 | Recovery | Steve T. Samoray | 6/2/2022
65346A | 2 | Recovery | Matthew S. Roberts | 6/3/2022
02200B | 3 | Recovery | Atlanta Botanical Garden | 6/3/2022
059008 | 9 | Recovery | CCR Environmental, Inc | 6/3/2022
171516 | 9 | Recovery | Copperhead Environmental Consulting, Inc | 6/3/2022
PER0037578 | 0 | Recovery | Jeric Alexander | 6/6/2022
PER0002772 | 1 | Recovery | Auriel M. Fournier | 6/6/2022
178815 | 1 | Recovery | Kentucky Department of Fish And Wildlife Resources | 6/6/2022
087191 | 6 | Recovery | Sandhills Ecological Institute | 6/7/2022
810274 | 14 | Recovery | ICF Jones and Stokes, Inc | 6/8/2022
31057A | 2 | Recovery | North Carolina Wildlife Resources Commission | 6/11/2022
21570C | 2 | Recovery | Tennessee Wildlife Resources Agency | 6/11/2022
PER0037863 | 0 | Recovery | Justin L. Lathrop | 6/13/2022
PER0038396 | 0 | Recovery | Landmark Park | 6/13/2022
156392 | 4 | Recovery | Skybax Ecological Services, LLC | 6/15/2022
079972 | 4 | Recovery | Eric J. Baka | 6/17/2022
78919A | 4 | Recovery | Brevard Zoo | 6/17/2022
63633A | 6 | Recovery | Biodiversity Research Institute | 6/17/2022
PER0002649 | 0 | Recovery | Joey A. Weber | 6/21/2022
206872 | 11 | Recovery | Joy O'Keefe | 6/22/2022
02332D | 2 | Recovery | Michelle Gilley | 6/23/2022
75524D | 1 | Recovery | Daniel Magoulick | 6/23/2022
89785B | 1 | Recovery | North Florida Wildlife LLC | 6/23/2022
676379 | 7 | Recovery | NOAA National Marine Fisheries Service | 6/29/2022
83013B | 1 | Recovery | Kathleen E. McDaniel | 6/30/2022
PER0044150 | 0 | Recovery | Stuart Tennyson | 7/5/2022
PER0047077 | 0 | Recovery | Jon Asher | 7/7/2022
PER0045925 | 0 | Recovery | Alex Pepper | 7/7/2022
PER0047172 | 0 | Recovery | Robert T. Watts, Jr. | 7/11/2022
PER0047067 | 0 | Recovery | Amanda Yong | 7/11/2022
PER0014726 | 0 | Recovery | Michael W. Sandel | 7/19/2022
091705 | 4 | Recovery | North Carolina Botanical Garden | 7/19/2022
02166C | 2 | Recovery | Zoe D. Bryant | 7/26/2022
054973 | 6 | Recovery | Nicholas M. Haddad | 7/27/2022
142806 | 3 | Recovery | James A. Cox | 7/29/2022
PER0046820 | 0 | Recovery | Stuart Tennyson | 8/5/2022
824723 | 11 | Recovery | Reed Bowman | 8/5/2022
125557 | 3 | Recovery | Barbara P. Allen | 8/5/2022
834070 | 5 | Recovery | Point Defiance Zoo & Aquarium | 8/5/2022
PER0043363 | 0 | Recovery | Liwei Wu | 8/9/2022
822525 | 7 | Recovery | Joe A. McGlincy | 8/9/2022
PER0013669 | 0 | Recovery | Alyssa R. Jones | 8/9/2022
PER0047069 | 0 | Recovery | Shivam Patel | 8/17/2022
PER0048132 | 0 | Recovery | Robert Giustra | 8/22/2022
PER0020707 | 0 | Recovery | Eric W. Teitsworth | 8/29/2022
81353B | 1 | Recovery | Stephanie Penk | 9/1/2022
130300 | 6 | Recovery | Paul D. Johnson | 9/9/2022
084054 | 4 | Recovery | AECOM | 9/9/2022
PER0002076 | 0 | Recovery | California Carnivores | 9/11/2022
43264B | 1 | Recovery | Nicole L. Riddle | 9/12/2022
PER0048357 | 0 | Recovery | Richard D. Eury | 9/13/2022
PER0010455 | 1 | Recovery | Kira Lindelof | 9/14/2022
PER0049162 | 0 | Recovery | Edward Diaz | 9/16/2022
009638 | 12 | Recovery | Appalachian Technical Services, Inc | 9/19/2022
061005 | 4 | Recovery | The International Carnivorous Plant Society, Inc | 9/20/2022
PER0024336 | 0 | Recovery | Jacksonville State University | 9/21/2022
PER0039949 | 0 | Recovery | Susan Hayden | 9/22/2022
81430B | 1 | Recovery | Heather L. Wallace | 9/22/2022
206777 | 4 | Recovery | Ralph Costa's Woodpecker Outfit, LLC | 9/27/2022
PER0020399 | 0 | Recovery | Jacksonville State University | 9/27/2022
PER0020528 | 0 | Recovery | Kyle N. Edmonds | 9/29/2022
114069 | 4 | Recovery | Fairchild Tropical Botanic Garden | 9/30/2022
PER0051399 | 0 | Recovery | Todd E. Danielson | 10/2/2022
PER0050920 | 0 | Recovery | Jerry S. Denny | 10/2/2022
PER0050917 | 0 | Recovery | Paul Huckabay | 10/4/2022
PER0036267 | 0 | Recovery | Shane Kelley | 10/7/2022
81500B | 1 | Recovery | Sara Samoray | 10/11/2022
PER0047994 | 0 | Recovery | Tyler Nolan | 10/12/2022
PER0042578 | 0 | Recovery | Sarah C. DeCamello | 10/12/2022
62026D | 2 | Recovery | Catherine G. Haase | 10/18/2022
PER0050959 | 0 | Recovery | Stephen Angeli | 10/20/2022
PER0050182 | 0 | Recovery | Kyoungbin Ahn | 10/27/2022
08606C | 3 | Recovery | Jacksonville Zoological Society | 10/27/2022
089075 | 5 | Recovery | Donna M. Oddy | 10/28/2022
PER0056427 | 0 | Recovery | Jeffrey Mock | 10/30/2022
PER0037836 | 0 | Recovery | Christopher M. Sheats | 11/6/2022
88797B | 2 | Recovery | Amber D. Nolder | 11/10/2022
11044C | 1 | Recovery | Tyler C. Newman | 11/13/2022
PER0037840 | 0 | Recovery | Cara Rogers | 11/17/2022
88796C | 2 | Recovery | Geological Survey of Alabama | 11/18/2022
81492B | 1 | Recovery | Biotope Forestry & Environmental, LLC | 11/21/2022
PER0055486 | 0 | Recovery | Biff Roeling | 11/22/2022
PER0056424 | 0 | Recovery | Aleks Xander Paragas | 11/22/2022
PER0053991 | 0 | Recovery | Todd Battey | 11/23/2022
084047 | 5 | Recovery | St. Johns River Water Management District | 11/23/2022
178643 | 3 | Recovery | Jeffrey C. West | 12/2/2022
070796 | 11 | Recovery | Apogee Environmental & Archaeological, Inc | 12/2/2022
007748 | 6 | Recovery | USDA Forest Service Kisatchie National Forest | 12/8/2022
34882A | 4 | Recovery | Mark A. Bailey | 12/9/2022
PER0056423 | 0 | Recovery | Travis S. Cox | 12/16/2022
PER0054695 | 0 | Recovery | Ryan Merritt | 12/16/2022
807672 | 19 | Recovery | J.H. Carter III | 12/16/2022
PER0036268 | 0 | Recovery | KFS, LLC | 12/16/2022
54891B | 1 | Recovery | Eastern Kentucky University | 12/22/2022
798839 | 1 | SHA | U.S. Fish and Wildlife Service | 3/3/2022
075424 | 1 | SHA | John Lambert | 8/11/2022
PER0041144 | 0 | SHA | North Carolina Wildlife Resources Commission | 10/21/2022

Region 5 (Connecticut, Delaware, District of Columbia, Maine, Maryland, Massachusetts, New Hampshire, New Jersey, New York, Pennsylvania, Rhode Island, Vermont, Virginia, and West Virginia)

Recovery Permits

For more information about any of the following recovery permits, contact the Recovery Permit Coordinator by email at PermitsR5ES@fws.gov or by telephone at 413-253-8212.

Permit No. | Version No. | Permit type | Permittee | Date issued
53603D | 2 | Recovery | West Virginia Division of Natural Resources | 2/21/2022
PER0009349 | 0 | Recovery | Maine Cooperative Fish and Wildlife Unit (USGS) | 2/25/2022
01086D | 3 | Recovery | Virginia Department of Wildlife Resources | 3/21/2022
PER0033920 | 0 | Recovery | Virginia Polytechnic Institute | 3/31/2022
PER0027548 | 0 | Recovery | State University Of New York—ESF | 4/6/2022
PER0030365 | 0 | Recovery | Gregory Myers | 4/25/2022
PER0039068 | 0 | Recovery | Kirk Environmental, LLP | 6/24/2022
PER0042004 | 0 | Recovery | Justin DeVault | 6/27/2022
PER0042281 | 0 | Recovery | Ernest Smith | 6/27/2022
PER0002181 | 2 | Recovery | Paul L. Angermeier | 7/15/2022
PER0031391 | 1 | Recovery | Smithsonian Environmental Research Center | 7/28/2022
PER0049780 | 0 | Recovery | Wildlife Restoration Partnerships | 8/12/2022
60422D | 3 | Recovery | Sea Research Foundation | 8/18/2022
69328D | 3 | Recovery | New England Aquarium | 9/7/2022
PER0048624 | 0 | Recovery | Paul Moosman | 9/22/2022
PER0048367 | 0 | Recovery | National Park Service | 10/13/2022
82615D | 1 | Recovery | Downeast Salmon Federation | 11/4/2022
70311D | 1 | Recovery | Riverhead Foundation for Marine Research and Preservation | 11/9/2022

Region 6 (Colorado, Kansas, Montana, Nebraska, North Dakota, South Dakota, Utah, and Wyoming)

The following permits, sorted by type of permit or agreement and date issued in the table below, were applied for and issued by the Regional office responsible for section 10 permitting in the States listed above.

HCPs and SHAs

For more information about any of the following HCP or SHA permits, contact the HCP or SHA Permit Coordinator by telephone at 303-236-7905.

Recovery Permits

For more information about any of the following recovery permits, contact the Recovery Permit Coordinator by email at PermitsR6ES@fws.gov, or by telephone at 303-236-4224.

Permit No. | Version No. | Permit type | Permittee | Date issued
60208A | 2 | HCP | Montana Department of Natural Resources and Conservation | 6/17/2022
PER0028464 | 0 | HCP | City of Gunnison | 8/8/2022
85057B | 2 | Recovery | George Cunningham | 1/18/2022
047288 | 2 | Recovery | National Park Service—Heartland Network | 1/18/2022
056001 | 2 | Recovery | East Dakota Water Development District | 1/31/2022
047808 | 3 | Recovery | National Park Service | 2/7/2022
PER0012679 | 0 | Recovery | University of Northern Colorado | 2/22/2022
06447C | 1 | Recovery | Montana Department of Fish, Wildlife And Parks | 3/15/2022
051828 | 2 | Recovery | Smithsonian National Zoo and Conservation Biology Institute | 3/21/2022
31151B | 2 | Recovery | Confederated Salish and Kootenai Tribes | 4/6/2022
09897C | 1 | Recovery | Deidre Duffy | 4/19/2022
049623 | 2 | Recovery | Department of Army, Fort Riley DPW—Environmental Division | 4/28/2022
044836 | 4 | Recovery | Environmental Industrial Services, LLC | 4/28/2022
66511C | 1 | Recovery | Milu Velardi | 5/4/2022
00484C | 1 | Recovery | Keith Geluso | 5/27/2022
047290 | 2 | Recovery | Colorado Parks And Wildlife | 5/27/2022
06556C | 1 | Recovery | Bowen Collins & Associates | 5/31/2022
047250 | 2 | Recovery | Montana Department of Fish, Wildlife and Parks | 5/31/2022
PER0036778 | 0 | Recovery | Canyonlands National Park | 6/2/2022
053737 | 2 | Recovery | USDA—Rocky Mountain Research Station | 6/8/2022
36792A | 5 | Recovery | Bio-Logic Inc | 6/21/2022
91328B | 2 | Recovery | North Dakota State University | 6/22/2022
056003 | 2 | Recovery | Detroit Zoological Society | 6/27/2022
PER0033598 | 0 | Recovery | Aimee E. Way | 6/29/2022
86044B | 1 | Recovery | U.S. Forest Service Black Hills National Forest | 7/7/2022
30363C | 1 | Recovery | Grand Teton National Park | 7/12/2022
27486B | 3 | Recovery | Wetland Dynamics, LLC | 7/13/2022
PER0042905 | 0 | Recovery | U.S. Geological Survey, Northern Rocky Mountain Science Center | 8/11/2022
038221 | 2 | Recovery | Central Nebraska Public Power & Irrigation District | 8/22/2022
039100 | 1 | Recovery | Nebraska Public Power District | 8/22/2022
PER0042678 | 0 | Recovery | Paul Barnhart | 9/7/2022
41329C | 1 | Recovery | Manzanita Botanical Consulting | 10/5/2022
PER0037587 | 0 | Recovery | Bridger-Teton National Forest | 10/27/2022
33389C | 1 | Recovery | Leah Waldner | 12/14/2022
93273B | 1 | Recovery | Sagebrush Advisors, LLC | 12/28/2022
047285 | 2 | Recovery | U.S. Geological Survey CERC | 12/29/2022
PER0025746 | 1 | SHA | Kansas Department of Wildlife and Parks | 12/13/2022

Region 7 (Alaska)

The following permits were applied for and issued by the Regional office responsible for section 10 permitting in Alaska. For more information about these recovery permits, contact the Permit Coordinator by email at PermitsR7ES@fws.gov or by telephone at 907-786-3323.

Permit No. | Version No. | Permit type | Permittee | Date issued
PER0032934 | 0 | Recovery | David N. Koons | 8/12/2022
PER0038816 | 0 | Recovery | USGS, Alaska Science Center | 8/12/2022

Region 8 (California, Nevada, and the Klamath Basin Portion of Oregon)

The following permits, sorted by type of permit or agreement and date issued in the table below, were applied for and issued by the Regional office responsible for section 10 permitting in the States and region listed above.

HCPs

For more information about any of the following HCP permits, contact the HCP Permit Coordinator by email at ITEOSpermitsR8ES@fws.gov.

Recovery Permits

For more information about any of the following recovery permits, contact the Recovery Permit Coordinator by email at PermitsR8ES@fws.gov or by telephone at 916-414-6464.

Permit No. | Version No. | Permit type | Permittee | Date issued
PER0034435 | 0 | HCP | Apple Homes Development, Inc | 2/17/2022
PER0036200 | 0 | HCP | DifWind Farms Limited VII and DifWind Farms Limited IX | 3/18/2022
PER0037949 | 0 | HCP | Law Office of Kim McCormick PLLC | 3/28/2022
PER0039144 | 0 | HCP | Bargas Environmental Consulting | 4/14/2022
PER0044183 | 0 | HCP | Ramona Municipal Water District | 5/31/2022
20536C | 0 | HCP | Bo Gould | 6/8/2022
PER0044426 | 0 | HCP | Lehigh Cement Southwest, Inc | 6/13/2022
PER0046054 | 0 | HCP | Southern Nevada Water Authority | 6/28/2022
PER0048621 | 0 | HCP | Mike Knoop and Michelle Wright | 7/29/2022
PER0040539 | 0 | HCP | REC Consultants, Inc | 8/15/2022
PER0048285 | 0 | HCP | Legacy Homes | 8/18/2022
PER0051273 | 0 | HCP | 8minute Solar Energy | 8/30/2022
PER0011953 | 0 | Recovery | National Council for Air and Stream Improvement, Inc | 1/31/2022
PER0009318 | 0 | Recovery | Yurok Tribe Wildlife Department | 2/16/2022
PER0038082 | 0 | Recovery | Zachary G. MacDonald | 3/22/2022
PER0026041 | 0 | Recovery | Walker Basin Conservancy | 3/23/2022
PER0035404 | 0 | Recovery | Melanie S. Rocks | 3/25/2022
PER0026681 | 0 | Recovery | California Department of Forestry and Fire Protection/Jackson Demonstration State Forest | 4/27/2022
80705A | 3 | Recovery | Sierra Pacific Industries | 5/2/2022
17838A | 4 | Recovery | University of Georgia | 5/18/2022
198910 | 6 | Recovery | U.S. Geological Survey, Southwest Biological Science Center | 5/18/2022
46010D | 1 | Recovery | Zoological Society of San Diego | 5/19/2022
085050 | 9 | Recovery | Kenneth Nagy | 5/20/2022
86449B | 1 | Recovery | Franziska Sandmeier | 5/23/2022
PER0034685 | 0 | Recovery | National Park Service, Mojave National Preserve | 6/1/2022
67253D | 2 | Recovery | Sequoia Park Zoo/City of Eureka | 6/6/2022
003314 | 12 | Recovery | U.S. Fish and Wildlife Service | 6/27/2022
051236 | 4 | Recovery | Erika Eidson | 6/29/2022
PER0016957 | 0 | Recovery | Integral Ecology Research Center | 7/5/2022
64580A | 3 | Recovery | Nicholas A. Rice | 7/7/2022
749872 | 8 | Recovery | David Germano | 7/7/2022
27460A | 4 | Recovery | Brian Zitt | 7/7/2022
044846 | 5 | Recovery | U.S. Geological Survey | 7/7/2022
83958B | 2 | Recovery | Jared Elia | 7/13/2022
50992B | 2 | Recovery | Antonette Gutierrez | 7/14/2022
815214 | 10 | Recovery | Oceano Dunes District | 7/14/2022
61720B | 1 | Recovery | Resource Conservation District of Santa Cruz County | 7/15/2022
787924 | 10 | Recovery | Markus Spiegelberg | 7/21/2022
69046B | 1 | Recovery | Jim Asmus | 7/21/2022
PER0011954 | 0 | Recovery | Daniel Schrimsher | 7/21/2022
832717 | 8 | Recovery | Bio-Studies, Inc | 7/21/2022
72119B | 1 | Recovery | Seth Dallmann | 7/26/2022
92799B | 3 | Recovery | Karl Fairchild | 7/26/2022
82155B | 2 | Recovery | Johanna Page | 7/26/2022
43597A | 3 | Recovery | Dana McLaughlin | 7/26/2022
141359 | 4 | Recovery | Stephen Stringer | 7/27/2022
108507 | 5 | Recovery | USFWS—Pacific Southwest Region (Region 8) | 8/8/2022
119861 | 3 | Recovery | Quad Knopf, Inc | 8/23/2022
063230 | 6 | Recovery | Jim Rocks | 9/6/2022
PER0011963 | 0 | Recovery | Ian Hirschler | 9/6/2022
64144A | 4 | Recovery | Emily Mastrelli | 9/6/2022
835549 | 8 | Recovery | Charles Black | 9/6/2022
PER0010753 | 0 | Recovery | Brenda Bennett | 9/6/2022
PER0051549 | 0 | Recovery | SWCA Environmental Consultants: Nevada | 9/21/2022
824123 | 8 | Recovery | SWCA, Inc | 9/23/2022
76006B | 3 | Recovery | Zoological Society of San Diego | 9/23/2022
148552 | 4 | Recovery | Holly Burger | 9/27/2022
PER0010755 | 0 | Recovery | Christian Knowlton | 9/27/2022
PER0002930 | 0 | Recovery | Environmental Science Associates | 9/28/2022
56891A | 2 | Recovery | Rush Abrams | 10/6/2022
14749C | 3 | Recovery | Lorena Bernal | 10/6/2022
61175B | 1 | Recovery | Lindsay Willrick | 10/6/2022
837760 | 11 | Recovery | Kendall Osborne | 10/6/2022
068142 | 4 | Recovery | Daniel Rubinoff | 10/6/2022
227185 | 2 | Recovery | Andrew B. Eastty | 10/7/2022
84402D | 0 | Recovery | Will Knowlton | 10/12/2022
768251 | 16 | Recovery | Biosearch Associates | 10/13/2022
39184A | 1 | Recovery | Tara Cornelisse | 10/18/2022
PER0025594 | 0 | Recovery | University of California, Davis | 10/20/2022
797233 | 9 | Recovery | Entomological Consulting Services, Ltd. | 10/25/2022
PER0036012 | 0 | Recovery | Christopher Searcy | 10/27/2022
PER0025577 | 0 | Recovery | Michael S. Henry | 10/28/2022
56489B | 2 | Recovery | Jonathan T. Koehler | 10/28/2022
58760A | 2 | Recovery | Jason Yakich | 10/28/2022
063429 | 4 | Recovery | California Department of Water Resources | 10/28/2022
018180 | 7 | Recovery | Point Reyes National Seashore | 10/28/2022
795930 | 11 | Recovery | Tansley Team, Inc | 10/28/2022
PER0045072 | 0 | Recovery | Selena Gonzalez | 10/31/2022
98083C | 1 | Recovery | Sarah Willbrand | 10/31/2022
PER0036109 | 0 | Recovery | Sarah Flaherty | 10/31/2022
72549C | 1 | Recovery | Marty Lewis | 10/31/2022
36221C | 1 | Recovery | Jason R. Peters | 10/31/2022
144964 | 3 | Recovery | Derek S. Jansen | 10/31/2022
36500A | 2 | Recovery | Western Foundation of Vertebrate Zoology | 11/3/2022
PER0044668 | 0 | Recovery | CORVUS Environmental Consulting, LLC | 11/3/2022
PER0040489 | 0 | Recovery | Tara J. Johnson-Kelly | 11/4/2022
89991B | 1 | Recovery | Sarah VonderOhe | 11/4/2022
PER0045160 | 0 | Recovery | Kyle Verblaauw | 11/4/2022
018177 | 8 | Recovery | Eric Hansen | 11/4/2022
89994B | 2 | Recovery | Daria Snider | 11/4/2022
825573 | 7 | Recovery | Brian Cypher | 11/4/2022
67570A | 2 | Recovery | Brett Hanshew | 11/4/2022
85618B | 2 | Recovery | Biological Resources Services, LLC | 11/4/2022
86906B | 2 | Recovery | DOI-NPS—Yosemite National Park | 11/4/2022
99374A | 2 | Recovery | Alan B. Franklin | 11/8/2022
PER0045140 | 0 | Recovery | Utah State University | 11/8/2022
PER0028838 | 0 | Recovery | Vince Rivas | 11/9/2022
170389 | 7 | Recovery | Travis Cooper | 11/9/2022
139634 | 4 | Recovery | Thomas Liddicoat | 11/9/2022
67555A | 3 | Recovery | Shannan Shaffer | 11/9/2022
796271 | 8 | Recovery | Shana Dodd | 11/9/2022
60153B | 1 | Recovery | Mary S. Belk | 11/9/2022
093591 | 4 | Recovery | Linda Robb | 11/9/2022
60147A | 2 | Recovery | Heather Moine | 11/9/2022
800931 | 6 | Recovery | Gwendolyn Kenney | 11/9/2022
031850 | 6 | Recovery | Gretchen Cummings | 11/9/2022
005535 | 7 | Recovery | Gilbert Goodlett | 11/9/2022
44855A | 3 | Recovery | Clint Scheuerman | 11/9/2022
092162 | 5 | Recovery | Andrew Borcher | 11/9/2022
PER0010773 | 0 | Recovery | Alicia Arcidiacono | 11/9/2022
778195 | 15 | Recovery | HELIX Environmental Planning, Inc | 11/9/2022
27501B | 2 | Recovery | Travis Kegel | 11/17/2022
036065 | 4 | Recovery | Korey Klutz | 11/17/2022
018909 | 6 | Recovery | Kelly Rios | 11/17/2022
58862A | 2 | Recovery | Greg Mason | 11/17/2022
36118B | 2 | Recovery | Callie Amoaku | 11/17/2022
77125D | 1 | Recovery | Zachary Cava | 11/22/2022
82158B | 1 | Recovery | Thomas Gonsolin | 11/22/2022
80703A | 3 | Recovery | Seth Reimers | 11/22/2022
64146A | 3 | Recovery | Patricia Valcarcel | 11/22/2022
067064 | 6 | Recovery | Lindsay Messett | 11/22/2022
134334 | 3 | Recovery | Lincoln Hulse | 11/22/2022
065741 | 4 | Recovery | John Lovio | 11/22/2022
63359B | 1 | Recovery | Jennifer Radtkey | 11/22/2022
221287 | 2 | Recovery | Diana Saucedo | 11/22/2022
59592B | 3 | Recovery | Angela Johnson | 11/22/2022
PER0026113 | 0 | Recovery | Map the Point | 11/22/2022
092476 | 4 | Recovery | Scott Quinnell | 11/29/2022
067992 | 5 | Recovery | Dan Dugan | 12/8/2022
082546 | 7 | Recovery | Elkhorn Slough National Estuarine Research Reserve | 12/8/2022
19906C | 1 | Recovery | Ross Taylor | 12/9/2022
95376C | 1 | Recovery | Mark J. Bellini | 12/9/2022
094642 | 14 | Recovery | Howard Shaffer | 12/9/2022
PER0050171 | 0 | Recovery | California Department of Parks and Recreation | 12/9/2022
058630 | 6 | Recovery | Mendocino Redwood Company, LLC | 12/9/2022
071215 | 2 | Recovery | Rebecca A. Doubledee | 12/12/2022
94702B | 1 | Recovery | Kristin Hubbard | 12/12/2022
43610A | 2 | Recovery | Jessica Orsolini | 12/12/2022
PER0056759 | 0 | Recovery | Jakob Woodall | 12/12/2022
795930 | 12 | Recovery | Tansley Team, Inc | 12/12/2022
PER0045091 | 0 | Recovery | Environmental Solutions and Innovations, Inc | 12/20/2022
PER0045262 | 0 | Recovery | JBD Environmental Consulting, LLC | 12/20/2022
PER0044409 | 0 | SHA | North Bay Water District | 6/3/2022
PER0044800 | 0 | SHA | The Wildlands Conservancy | 9/26/2022

Availability of Documents

You may request copies of the Federal Register documents publishing the receipt of applications for these permits from the office that issued the permit (see contact information above). Documents and other information submitted with these applications are available for review subject to the requirements of the Privacy Act (5 U.S.C. 552a) and Freedom of Information Act (5 U.S.C. 552), by any party who submits a written request for a copy of such documents.

Authority

We provide this notice under the authority of section 10 of the ESA (16 U.S.C. 1531 et seq.).

Gary Frazer,
Assistant Director for Ecological Services.

[FR Doc. 2023-21982 Filed 10-3-23; 8:45 am]

BILLING CODE 4333-15-P